DEPARTMENT OF TRANSPORTATION

Office of the Secretary of Transportation

[DOT Docket No. DOT-OST-2010-0074]

The Future of Aviation Advisory Committee (FAAC) Subcommittee on Financing; Notice of Meeting

AGENCY: U.S. Department of Transportation, Office of the Secretary of Transportation.

ACTION: Notice of meeting.

SUMMARY: The Department of Transportation, Office of the Secretary of Transportation, announces a meeting of the FAAC Subcommittee on Financing, which will be held at the offices of the General Aviation Manufacturers Association, in Washington, DC. This notice announces the date, time, and location of the meeting, which will be open to the public. The purpose of the FAAC is to provide advice and recommendations to the Secretary of Transportation to ensure the competitiveness of the U.S. aviation industry and its capability to manage effectively the evolving transportation needs, challenges, and opportunities of the global economy. The Subcommittee on Financing will address the need for a stable, secure, and sufficient level of funding for our aviation system and make recommendations to the Secretary for action. This is the second meeting of the subcommittee.

DATES: The meeting will be held on August 17, 2010, from 9 a.m. to 4 p.m. Eastern Daylight Time.

ADDRESSES: The meeting will be held at the offices of the General Aviation Manufacturers Association, 8th Floor, 1400 K Street, NW., Washington, DC 20533.

Public Access: The meeting is open to the public. (See below for registration instructions.)

Public Comments: Persons wishing to offer written comments and suggestions concerning the activities of the advisory committee or Subcommittee on Financing should file comments in the Public Docket (Docket Number DOT-OST-2010-0074 at http://www.Regulations.Gov) or alternatively through the FAAC@dot.gov e-mail. If comments and suggestions are intended specifically for the Subcommittee on Financing, the term “Finance” should be listed in the subject line of the message. To ensure such comments can be considered by the subcommittee before its August 17, 2010, meeting, public comments must be filed by 5 p.m. Eastern Daylight Time on Friday, August 6, 2010.

SUPPLEMENTARY INFORMATION:

Background

Under section 10(a)(2) of the Federal Advisory Committee Act (5 U.S.C. App. 2), we are giving notice of an FAAC Subcommittee on Financing meeting taking place on August 17, 2010, from 9 a.m. to 4 p.m. Eastern Daylight Time, at the offices of the General Aviation Manufacturers Association, 8th Floor, 1400 K Street, NW., Washington, DC 20533. The agenda includes—

1. Briefings on selected topics related to aviation financing and a discussion of the briefing topics, and

2. Preparation of the work plan template for the subcommittee's future work.

Registration

The meeting room can accommodate up to 20 members of the public. Persons desiring to attend in person must pre-register by August 6, 2010, through e-mail to FAAC@dot.gov. The term “Registration: Financing” should be listed in the subject line of the message, and admission will be limited to the first 20 persons to pre-register and receive a confirmation of their pre-registration. Persons wishing to attend via Webinar must pre-register by visiting https://www2.gotomeeting.com/register/663158267. Webinar attendance will be limited to the first 150 persons to pre-register and receive a confirmation of their pre-registration. Minutes of the meeting will be taken and will be made available to the public.

Request for Special Accommodation

The DOT is committed to providing equal access to this meeting for all participants. If you need alternative formats or services because of a disability, please send a request to FAAC@dot.gov with the term “Special Accommodations” listed in the subject line of the message by close of business on August 6, 2010.

FOR FURTHER INFORMATION CONTACT: John Hennigan, Air Traffic Organization, Federal Aviation Administration, 800 Independence Avenue, SW., Room 409, Washington, DC, 20591; (202) 631-6644.

Issued in Washington, DC, on July 30, 2010.
Pamela Hamilton-Powell,
Designated Federal Official, Future of Aviation Advisory Committee.

[FR Doc. 2010-19261 Filed 8-4-10; 8:45 am]

BILLING CODE 4910-13-P